DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by October 7, 2004.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax (703) 358-2281.

FOR FURTHER INFORMATION CONTACT: Division of Management Authority, telephone (703) 358-2104.

SUPPLEMENTARY INFORMATION:

Endangered Species

The public is invited to comment on the following application(s) for a permit to conduct certain activities with endangered species. This notice is provided pursuant to section 10(c) of the Endangered Species Act of 1973, as amended (16 U.S.C. 1531, et seq.). Written data, comments, or requests for copies of these complete applications should be submitted to the Director (address above).

Applicant: Michael Lange, c/o Texas Parks and Wildlife, Austin, TX, PRT-087790.

The applicant requests a permit to export up to 90 seeds of black lace cactus, (Echinocereus reichenbachii var. albertii) collected from the wild in Texas, to Michael Lange, Plauen, Germany, for the purpose of scientific research.

Applicant: The Colyer Institute, San Diego, CA, PRT-088724.

The applicant requests a permit to export the carcass of one captive-born Calamian deer (Axis calaminensis), to the National Museums of Scotland for the purpose of scientific research.

Applicant: Joseph T. Glover, Sawyerville, AL, PRT-092306.

The applicant requests a permit to import the sport-hunted trophy of one male bontebok (Damaliscus pygargus pygargus) culled from a captive herd maintained under the management program of the Republic of South Africa, for the purpose of enhancement of the survival of the species.

Applicant: Klinton J. Graf, Pearsall, TX, PRT-092357.

The applicant requests a permit to import the sport-hunted trophy of one male bontebok (Damaliscus pygargus pygargus) culled from a captive herd maintained under the management program of the Republic of South Africa, for the purpose of enhancement of the survival of the species.

Applicant: Hawthorn Corporation, Grayslake, IL, PRT-087701, 087703, 088950, 088952, 088953, 088954, 088955, 088956, 088957, 088958, 088959, and 088960.

The applicant requests permits to export live captive born tigers (Panthera tigris) to worldwide locations for the purpose of enhancement of the species through conservation education. The permit numbers and animals are: Lizzie, 087701; Massey, 087703; China, 088950; Vanita, 088952; Amba, 088953; Vishnu, 088954; Diego, 088955; Frieda, 088956; Shaman, 088957; Shiua, 088958; Natari, 088959; Darsha, 088960. This notification covers activities to be conducted by the applicant over a three-year period and the import of any potential progeny born while overseas.

Applicant: Feld Entertainment, dba Ringling Bros & Barnum & Bailey, Graylake, IL, PRT-063771 and 088351.

The applicant requests permits to export two live captive-born Asian elephants (Elephas maximus) to worldwide locations for the purpose of enhancement of the species through conservation education. The permit numbers and animals are: “Doc” or “Fish,” 063771; and “Gunther” 088351. This notification covers activities to be conducted by the applicant over a three-year period.

Endangered Marine Mammals and Marine Mammals

The public is invited to comment on the following application(s) for a permit to conduct certain activities with endangered marine mammals and/or marine mammals. The application(s) was/were submitted to satisfy requirements of the Endangered Species Act of 1973, as amended (16 U.S.C. 1531, et seq.) and/or the Marine Mammal Protection Act of 1972, as amended (16 U.S.C. 1361, et seq.), and the regulations governing endangered species (50 CFR Part 17) and/or marine mammals (50 CFR Part 18). Written data, comments, or requests for copies of the complete applications or requests for a public hearing on these applications should be submitted to the Director (address above). Anyone requesting a hearing should give specific reasons why a hearing would be appropriate. The holding of such a hearing is at the discretion of the Director.

Applicant: New College of Florida, Sarasota, FL, PRT-837923.

The applicant requests a permit amendment to conduct studies measuring auditory brainstem responses for an additional 10 captive-held Florida manatees (Trichechus manatus) for the purpose of scientific research. This notification covers activities to be conducted by the applicant through August, 2007.

Concurrent with the publication of this notice in the Federal Register, the Division of Management Authority is forwarding copies of the above applications to the Marine Mammal Commission and the Committee of Scientific Advisors for their review.

Applicant: Guy P. Ferraro, Union Beach, NJ, PRT-092340.

The applicant requests a permit to import a polar bear (Ursus maritimus) sport hunted from the Viscount Melville Sound polar bear population in Canada for personal use.

Dated: August 27, 2004.
Lisa J. Lierheimer,
Senior Permit Biologist, Branch of Permits, Division of Management Authority.

[FR Doc. 04-20241 Filed 9-3-04; 8:45 am]

BILLING CODE 4310-55-P